DEPARTMENT OF TRANSPORTATION

Federal Aviation Administration

14 CFR Part 39

[Docket No. 2000-CE-25-AD; Amendment 39-12244; AD 2001-11-03]

RIN 2120-AA64

Airworthiness Directives; Raytheon Aircraft Company Beech Models F33A, A36, B36TC, 58/58A, C90A, B200, and 1900D Airplanes

AGENCY: Federal Aviation Administration, DOT.

ACTION: Final rule.

SUMMARY: This amendment adopts a new airworthiness directive (AD) that applies to certain Raytheon Aircraft Company (Raytheon) Beech Models F33A, A36, B36TC, 58/58A, C90A, B200, and 1900D airplanes equipped with a KA-33 cooling blower. This AD requires you to incorporate certain electrical parts to protect cooling blowers. This AD is the result of several reports of circuit breakers failing to protect cooling blowers on the affected airplanes. The actions specified by this AD are intended to protect the blower motor circuit and reduce the possibility of emission of smoke or a burning odor into the cockpit or passenger compartment as a result of a failed or seized blower motor.

DATES: This AD becomes effective on July 20, 2001.

The Director of the Federal Register approved the incorporation by reference of certain publications listed in the regulations as of July 20, 2001.

ADDRESSES: You may get the service information referenced in this AD from the Raytheon Aircraft Company, P.O. Box 85, Wichita, Kansas 67201-0085; telephone: (800) 429-5372 or (316) 676-3140. You may examine this information at the Federal Aviation Administration (FAA), Central Region, Office of the Regional Counsel, Attention: Rules Docket No. 2000-CE-25-AD, 901 Locust, Room 506, Kansas City, Missouri 64106; or at the Office of the Federal Register, 800 North Capitol Street, NW., suite 700, Washington, DC.

FOR FURTHER INFORMATION CONTACT: Todd Dixon, Aerospace Engineer, FAA, Wichita Aircraft Certification Office, 1801 Airport Road, Mid-Continent Airport, Wichita, Kansas 67209; telephone: (316) 946-4152; facsimile: (316) 946-4407.

SUPPLEMENTARY INFORMATION:

Discussion

What Events Have Caused This AD?

The FAA has received several reports of blower motors failing, seizing, smoking, and producing a burning odor that enters the cabin and passenger compartment. These events are the result of the blower motor having circuit protection of more than 1 ampere. This amount of circuit protection does not prevent the blower motor from smoking and creating a burning odor should it fail or seize.

What Are the Consequences if the Condition Is Not Corrected?

This condition could result in smoke or burning odor entering the cockpit or passenger compartments.

Has FAA Taken any Action to This Point?

We issued a proposal to amend part 39 of the Federal Aviation Regulations (14 CFR part 39) to include an AD that would apply to certain Raytheon Beech Models F33A, A36, B36TC, 58/58A, C90A, B200, and 1900D airplanes equipped with a KA-33 cooling blower. This proposal was published in the Federal Register as a notice of proposed rulemaking (NPRM) on February 14, 2001 (66 FR 10226). The NPRM proposed to require you to incorporate certain electrical parts to protect cooling blowers.

Was the Public Invited To Comment?

Interested persons were afforded an opportunity to participate in the making of this amendment. No comments were received on the proposed rule or the FAA's determination of the cost to the public.

FAA's Determination and Provisions of This AD

What Is FAA's Final Determination on This Issue?

After careful review of all available information related to the subject presented above, we have determined that air safety and the public interest require the adoption of the rule as proposed except for minor editorial corrections. We determined that these minor corrections:

—Will not change the meaning of the AD; and

—will not add any additional burden upon the public than was already proposed.

What Are the Differences Between the Service Bulletin and This AD?

Raytheon specifies in the service information that you are to do this modification at the next scheduled inspection or before 6 months or 600 hours time-in-service, whichever comes first. We require you do the modification within the next 6 calendar months or 600 hours time-in-service (TIS), whichever comes first, after the effective date of this AD. We cannot enforce a compliance time of “at the next scheduled inspection.” We believe that 6 calendar months or 600 hours TIS will give the owners/operators of the affected airplanes enough time to have the required actions done without compromising the safety of the airplanes. This will allow the owners/operators to work this modification into regularly scheduled maintenance.

Cost Impact

How Many Airplanes Does This AD Impact?

We estimate that this AD affects 3,403 airplanes in the U.S. registry.

Models | Number of U.S. Airplanes Affected
F33A, A36, B36TC, and 58/58A | 2,385
C90A | 275
B200 | 343
1900D | 400

What Is the Cost Impact of This AD on Owners/Operators of the Affected Airplanes?

We estimate the following costs to accomplish the inspection for Beech Models F33A, A36, B36TC, and 58/58A airplanes:

Labor cost | Parts cost | Total cost per airplane | Total cost on U.S. operators
1 workhour × $60 per hour = $60 | No parts needed for inspection. | $60 | 2,385 × $60 = $143,100.

For Beech Models F33A, A36, B36TC, and 58/58A airplanes, we estimate the following costs to do any necessary circuit breaker installation that will be required based on the results of the inspection. We have no way of knowing the number of airplanes that will need the circuit breaker installation:

Labor cost | Parts cost | Total cost per circuit breaker installation
1 workhour × $60 per hour = $60 to do each circuit breaker installation | $33 | $60 + $33 = $93.

We estimate the following costs to do the installation for Beech Model C90A airplanes. We have no way of knowing how many airplanes will need the in-line fuse holder and 1 ampere slow-blow fuse installation:

Labor cost | Parts cost | Total cost per in-line fuse holder and 1-ampere fuse installation
1 workhour × $60 per hour = $60 to do each in-line fuse holder and 1-ampere slow-blow fuse installation | $12 | $60 + $12 = $72.

We estimate the following costs to do the installation for Beech Models B200 airplanes. We have no way of knowing how many airplanes may need the in-line fuse holder and 1 ampere slow-blow fuse installation:

Labor cost | Parts cost | Total cost per in-line fuse holder, 1-ampere fuse installation, and junction box re-work
2 work­hours × $60 per hour = $120 | $19 | $120 + $19 = $139.

We estimate the following costs to do the installation for Beech Models 1900D airplanes. We have no way of knowing the number of airplanes that will need the in-line fuse holder and 1 ampere slow-blow fuse installation:

Labor cost | Parts cost | Total cost per in-line fuse holder and 1-ampere fuse installation
1 workhour × $60 per hour = $60 | $12 | $60 + $12 = $72.

The manufacturer will allow warranty credit for labor and parts to the extent noted in the service bulletin.

Regulatory Impact

Does this AD Impact Various Entities?

The regulations adopted herein will not have a substantial direct effect on the States, on the relationship between the national government and the States, or on the distribution of power and responsibilities among the various levels of government. Therefore, it is determined that this final rule does not have federalism implications under Executive Order 13132.

Does This AD Involve a Significant Rule or Regulatory Action?

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2001-11-03 Raytheon Aircraft Company: Amendment 39-12244; Docket No. 2000-CE-25-AD.

(a) What airplanes are affected by this AD? This AD affects the following airplanes that are certificated in any category:

Model | Serial Nos.
Beech F33A | CE-1050 through CE-1791.
Beech A36 | E-2205 through E-3217.
Beech B36TC | EA-443 through EA-628.
Beech 58/58A | TH-1436 through TH-1883.
Beech C90A | Do not have the EFIS-84 System Installation equipped with factory installed KLN-88 LORAN: LJ-1278 LJ-1288, LJ-1293, LJ-1299, LJ-1314, and LJ-1315.
Beech C90A | Equipped with Collins EFIS-84 System: LJ-1306, LJ-1316, LJ-1318, LJ-1320 through LJ-1334, LJ-1340 through LJ-1592.
Beech B200 | BB-1314, BB-1449 through BB-1692 equipped with Collins EFIS-84 System.
1900D | UE-1 through UE-401.

(b) Who must comply with this AD? Anyone who wishes to operate any of the above airplanes must comply with this AD.

(c) What problem does this AD address? The actions specified by this AD are intended to protect the blower motor circuit and reduce the possibility of the emission of smoke or a burning odor in the cockpit or passenger compartment as a result of a failed or seized blower motor.

(d) What actions must I accomplish to address this problem for Beech Models F33A, A36, B36TC, and 58/58A airplanes? To address this problem, you must accomplish the following actions:

Actions | Compliance | Procedures
(1) Inspect for an installed and properly working KA-33 cooling blower, unless already accomplished | Within the next 600 hours time-in-service (TIS) after July 20, 2001 (the effective date of this AD) or within the next 6 calendar months after July 20, 2001 (the effective date of this AD), whichever comes first | Do this action following Raytheon Mandatory Service Bulletin SB 34-3267, Issued: March, 1999.
(2) If the aircraft has a KA-33 cooling blower, install a 1 ampere circuit breaker, part number (P/N) 7277-2-1, in place of the factory installed 3 ampere/5 ampere circuit breakers | Before further flight after the inspection required in paragraph (d)(1) of this AD | Do this action following Raytheon Mandatory Service Bulletin SB 34-3267, Issued: March, 1999.
(3) Do not install, on any affected airplane, any 3 ampere/5 ampere circuit breakers to protect the KA-33 Cooling Blower | As of July 20, 2001 (the effective date of this AD) | Not Applicable.

(e) What actions must I accomplish to address this problem for Beech Model C90A airplanes? To address this problem, you must accomplish the following actions:

Actions | Compliance | Procedures
(1) Install the in-line fuse holder, P/N HHJ-A, and install the 1-ampere slow-blow fuse, P/N MDL1, in the fuse holder, unless already accomplished | Within the next 600 hours TIS after July 20, 2001 (the effective date of this AD) or within the next 6 calendar months after July 20, 2001 (the effective date of this AD), whichever comes first | Do these actions following Raytheon Mandatory Service Bulletin SB 34-3269, Revision 1, Revised: October, 2000.
(2) Doing this action following Raytheon Mandatory Service Bulletin SB 34-3269, Issued: January 2000, is considered an alternative method of compliance with this AD | Within the next 600 hours TIS after July 20, 2001 (the effective date of this AD) or within the next 6 calendar months after July 20, 2001 (the effective date of this AD), whichever comes first | Use the procedures in Raytheon Mandatory Service Bulletin SB 34-3269, Issued: January 2000, if you use this alternative method of compliance.

(f) What actions must I accomplish to address this problem for Beech Model B200 airplanes? To address this problem, you must accomplish the following actions:

Actions | Compliance | Procedures
(1) Install the in-line fuse holder, P/N HHJ-A, and install the 1-ampere slow-blow fuse, P/N MDL1, in the fuse holder, unless already accomplished | Within the next 600 hours TIS after July 20, 2001 (the effective date of this AD) or within the next 6 calendar months after July 20, 2001 (the effective date of this AD), whichever comes first | Do these actions following Raytheon Mandatory Service Bulletin SB 34-3269, Revision 1, Revised: October, 2000.
(2) Remove the P/N GMW-1 fuse and install the new P/N GMW-3 fuse in the Avionics Junction Box, unless already accomplished | Within the next 600 hours TIS after July 20, 2001 (the effective date of this AD) or within the next 6 calendar months after July 20, 2001 (the effective date of this AD), whichever comes first | Do these actions following Raytheon Mandatory Service Bulletin SB 34-3269, Revision 1, Revised: October, 2000.
(3) Doing this action following Raytheon Mandatory Service Bulletin SB 34-3269, Issued: January 2000, is considered an alternative method of compliance with this AD | Within the next 600 hours TIS after July 20, 2001 (the effective date of this AD) or within the next 6 calendar months after July 20, 2001 (the effective date of this AD), whichever comes first | Use the procedures in Raytheon Mandatory Service Bulletin SB 34-3269, Issued: January 2000, if you use this alternative method of compliance.

(g) What actions must I accomplish to address this problem for Beech Model 1900D airplanes? To address this problem, you must accomplish the following actions:

Actions | Compliance | Procedures
Install the in-line fuse holder, P/N HHJ-A, in wire J51500E-J039002, and install the 1-ampere slow-blow fuse, P/N MDA1, in the fuse holder, unless already accomplished | Within the next 600 hourse TIS after July 20, 2001 (the effective date of this AD), or within the next 6 calendar months after July 20, 2001 (the effective date of this AD), whichever comes first | Do these actions following Raytheon Mandatory Service Bulletin SB 34-3268, Issued: April, 2000.

(h) Can I comply with this AD in any other way? You may use an alternative method of compliance or adjust the compliance time if:

(1) Your alternative method of compliance provides an equivalent level of safety; and

(2) The Manager, Wichita Aircraft Certification Office (ACO), approves your alternative. Submit your request through an FAA Principal Maintenance Inspector, who may add comments and then send it to the Manager, Wichita ACO.

Note: This AD applies to each airplane with a KA-33 cooling blower identified in paragraph (a) of this AD, regardless of whether it has been modified, altered, or repaired in the area subject to the requirements of this AD. For airplanes that have been modified, altered, or repaired so that the performance of the requirements of this AD is affected, the owner/operator must request approval for an alternative method of compliance in accordance with paragraph (h) of this AD. The request should include an assessment of the effect of the modification, alteration, or repair on the unsafe condition addressed by this AD; and, if you have not eliminated the unsafe condition, specific actions you propose to address it.

(i) Where can I get information about any already-approved alternative methods of compliance? Contact Todd Dixon, Aerospace Engineer, FAA, Wichita Aircraft Certification Office, 1801 Airport Road, Mid-Continent Airport, Wichita, Kansas 67209; telephone: (316) 946-4152; facsimile: (316) 946-4407.

(j) What if I need to fly the airplane to another location to comply with this AD? The FAA can issue a special flight permit under sections 21.197 and 21.199 of the Federal Aviation Regulations (14 CFR 21.197 and 21.199) to operate your airplane to a location where you can accomplish the requirements of this AD.

(k) Are any service bulletins incorporated into this AD by reference? Actions required by this AD must be done in accordance with Raytheon Mandatory Service Bulletin SB 34-3267, Issued: March, 1999, Raytheon Mandatory Service Bulletin SB 34-3268, Issued: April, 2000, Raytheon Mandatory Service Bulletin SB 34-3269, Issued: January 2000, and Raytheon Mandatory Service Bulletin SB 34-3269, Revision 1, Revised: October, 2000. The Director of the Federal Register approved this incorporation by reference under 5 U.S.C. 552(a) and 1 CFR part 51. You can get copies from the Raytheon Aircraft Company, P.O. Box 85, Wichita, Kansas 67201-0085. You can look at copies at the FAA, Central Region, Office of the Regional Counsel, 901 Locust, Room 506, Kansas City, Missouri, or at the Office of the Federal Register, 800 North Capitol Street, NW, suite 700, Washington, DC.

(l) When does this amendment become effective? This amendment becomes effective on July 20, 2001.

Issued in Kansas City, Missouri, on May 21, 2001.
Michael Gallagher,
Manager, Small Airplane Directorate, Aircraft Certification Service.

[FR Doc. 01-13581 Filed 6-5-01; 8:45 am]

BILLING CODE 4910-13-P